NATIONAL SCIENCE FOUNDATION

Notice of Permit Applications Received Under the Antarctic Conservation Act of 1978 (P.L. 95-541)

AGENCY: National Science Foundation.

ACTION: Notice of Permit Applications Received Under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by April 26, 2004. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant

Stacy Kim, Moss Landing Marine Laboratories, San Jose State University, 8272 Moss Landing Road, Moss Landing, CA 95039-9647.

Activity for Which Permit is Requested

Enter Antarctic Specially Protected Area. The applicant proposes to enter the Cape Royds Antarctic Specially Protected Area (ASPA #121) for the purpose of diving within the marine boundaries of the site. This area is near a penguin rookery and experiences significant organic enrichment from runoff of guano. This natural enrichment to the pelagic and benthic communities can be compared to the anthropogenic enrichment from the near McMurdo Station. Access to the site will be via tracked vehicle across the sea ice from McMurdo Station, approaching the vicinity of Shackleton's Depot. Depending on the sea ice, it may be necessary to walk diving gear to the dive locations within the marine boundaries of the site, but outside the marked boundaries of the rookery. The applicant proposes to make approximately 3-4 dives to collect samples.

Location

Cape Royds, Ross Island (ASPA #121).

Dates

October 13, 2004 to December 10, 2004.

Nadene G. Kennedy,
Permit Officer, Office of Polar Programs.

[FR Doc. 04-6819 Filed 3-25-04; 8:45 am]

BILLING CODE 7555-01-M